DEPARTMENT OF TRANSPORTATION

Maritime Administration

[Docket No: MARAD 2006-24149]

Availability of a Draft Environmental Assessment

AGENCY: Department of Transportation, Maritime Administration.

ACTION: Notice of the Availability of a Draft Environmental Assessment.

SUMMARY: The purpose of this Notice is to make available for public review and comment the Port of Anchorage Intermodal Expansion, North End Runway Material Extraction and Transport draft Environmental Assessment (EA). The draft EA analyzes the potential impacts on the human and natural environment associated with the proposed material extraction activities at the North End Borrow Site and potential transportation corridors located on Elmendorf Air Force Base (EAFB). This environmental documentation supports the proposed expansion of the Port of Anchorage (POA), which includes a variety of activities to enhance the transportation of goods and people within the State of Alaska.

DATES: Comments on this draft EA must be received by April 17, 2006.

FOR FURTHER INFORMATION CONTACT: Daniel E. Yuska, Jr., Environmental Protection Specialist, Office of Environmental Activities, U.S. Maritime Administration, 400 Seventh Street, SW., Washington, D.C. 20590; telephone (202) 366-0714, fax (202) 366-6988.

SUPPLEMENTARY INFORMATION: Comments may be submitted by mail to the Docket Clerk, U.S. DOT Dockets, Room PL-401, Department of Transportation, 400 Seventh St., SW., Washington, DC 20590-0001. Written comments should refer to docket number MARAD 2006-24149. All comments will become part of this docket and will be available for inspection and copying at the above address between 10 a.m. and 5 p.m., E.T., Monday through Friday, except Federal holidays. An electronic version of this document and all documents entered into this docket are available at http://dms.dot.gov. No comments will be accepted after April 17, 2006. In addition, copies of the draft EA are available for public viewing on the Port of Anchorage web site (http://www.portofanchorage.org) or at the Loussac Library in Anchorage.

(Authority: 49 CFR 1.66)

Dated: March 13, 2006.
By Order of the Maritime Administrator.
Joel C. Richard,
Secretary, Maritime Administration.

[FR Doc. E6-3896 Filed 3-16-06; 8:45 am]

BILLING CODE 4910-81-P